DEPARTMENT OF TRANSPORTATION

Federal Aviation Administration

14 CFR Part 39

[Docket No. FAA-2017-1101; Product Identifier 2016-NM-030-AD; Amendment 39-19122; AD 2017-25-08]

RIN 2120-AA64

Airworthiness Directives; ATR-GIE Avions de Transport Régional Airplanes

AGENCY: Federal Aviation Administration (FAA), DOT.

ACTION: Final rule; request for comments.

SUMMARY: We are adopting a new airworthiness directive (AD) for certain ATR-GIE Avions de Transport Régional Model ATR42-500 and ATR72-212A airplanes. This AD requires revising the airplane flight manual to provide procedures to the flightcrew for operational restrictions affecting in-flight use of the autopilot (AP) or yaw damper (YD) during single source operation. This AD was prompted by flight test evaluations that revealed discrepancies with the YD and AP when in single source operation on certain airplanes. We are issuing this AD to address the unsafe condition on these products.

DATES: This AD becomes effective December 28, 2017.

We must receive comments on this AD by January 29, 2018.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: U.S. Department of Transportation, Docket Operations, M-30, West Building Ground Floor, Room W12-140, 1200 New Jersey Avenue SE, Washington, DC, between 9 a.m. and 5 p.m., Monday through Friday, except Federal holidays.

Examining the AD Docket

You may examine the AD docket on the internet at http://www.regulations.gov by searching for and locating Docket No. FAA-2017-1101; or in person at the Docket Operations office between 9 a.m. and 5 p.m., Monday through Friday, except Federal holidays. The AD docket contains this AD, the regulatory evaluation, any comments received, and other information. The street address for the Docket Operations office (telephone 800-647-5527) is in the ADDRESSES section. Comments will be available in the AD docket shortly after receipt.

FOR FURTHER INFORMATION CONTACT: Shahram Daneshmandi, Aerospace Engineer, International Section, Transport Standards Branch, FAA, 1601 Lind Avenue SW, Renton, WA 98057-3356; telephone 425-227-1112; fax 425-227-1149.

SUPPLEMENTARY INFORMATION:

Discussion

The European Aviation Safety Agency (EASA), which is the Technical Agent for the Member States of the European Union, has issued EASA Airworthiness Directive 2016-0046, dated March 9, 2016 (referred to after this as the Mandatory Continuing Airworthiness Information, or “the MCAI”), to correct an unsafe condition on certain ATR-GIE Avions de Transport Régional Model ATR42-500 and Model ATR72-212A airplanes. The MCAI states:

Following investigations after EASA AD 2015-0237R1 was issued, additional flight tests evaluations performed on ATR aeroplanes equipped with New Avionics Suite Standard 2 have revealed an unsatisfactory behaviour of the Yaw Damper/Autopilot (YD/AP), when in `single source operation' (i.e. one Air Data Computer (ADC) inoperative, one Attitude and Heading Reference System (AHRS) inoperative, or failure of both Direct Current (DC) Generators), upon a sudden engine power asymmetry at low Indicated Air Speed (IAS).

This unsatisfactory behavior is due to the YD limited authority in single source and is characterized by inappropriate flight equilibrium, with important flight control efforts needed on the roll axis to safely control the aeroplane.

This condition, if not corrected, could result in loss of control of the aeroplane.

For the reasons described above, this [EASA] AD requires amendment of the applicable Airplane Flight Manual (AFM) to introduce AP and YD operational restrictions, when in single source and operating at an IAS below 160kt.

This [EASA] AD is considered an interim action and further [EASA] AD action may follow.

You may examine the MCAI on the internet at http://www.regulations.gov by searching for and locating Docket No. FAA-2017-1101.

FAA's Determination and Requirements of This AD

This product has been approved by the aviation authority of another country, and is approved for operation in the United States. Pursuant to our bilateral agreement with the State of Design Authority, we have been notified of the unsafe condition described in the MCAI referenced above. We are issuing this AD because we evaluated all pertinent information and determined the unsafe condition exists and is likely to exist or develop on other products of these same type designs.

FAA's Determination of the Effective Date

There are currently no domestic operators of this product. Therefore, we find good cause that notice and opportunity for prior public comment are unnecessary. In addition, for the reason(s) stated above, we find that good cause exists for making this amendment effective in less than 30 days.

Comments Invited

This AD is a final rule that involves requirements affecting flight safety, and we did not precede it by notice and opportunity for public comment. We invite you to send any written relevant data, views, or arguments about this AD. Send your comments to an address listed under the ADDRESSES section. Include “Docket No. FAA-2017-1101; Product Identifier 2016-NM-030-AD” at the beginning of your comments. We specifically invite comments on the overall regulatory, economic, environmental, and energy aspects of this AD. We will consider all comments received by the closing date and may amend this AD based on those comments.

We will post all comments we receive, without change, to http://www.regulations.gov, including any personal information you provide. We will also post a report summarizing each substantive verbal contact we receive about this AD.

Costs of Compliance

Currently, there are no affected U.S.-registered airplanes. If an affected airplane is imported and placed on the U.S. Register in the future, we provide the following cost estimates to comply with this AD:

We estimate that it will take about 1 work-hour per product to comply with the basic requirements of this AD. The average labor rate is $85 per work-hour. Based on these figures, we estimate the cost of this AD on U.S. operators to be $85 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes to the Director of the System Oversight Division.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2017-25-08 ATR-GIE Avions de Transport Régional: Amendment 39-19122; Docket No. FAA-2017-1101; Product Identifier 2016-NM-030-AD.

(a) Effective Date

This AD becomes effective December 28, 2017.

(b) Affected ADs

None.

(c) Applicability

This AD applies to ATR-GIE Avions de Transport Régional Model ATR42-500 and ATR72-212A airplanes, certificated in any category, all manufacturer serial numbers, as specified in paragraphs (c)(1) and (c)(2) of this AD.

(1) Airplanes modified in production by incorporation of Avions de Transport Régional modification 6977 (New Avionics Suite Standard 2).

(2) Airplanes modified in service by incorporation of Avions de Transport Régional Service Bulletin ATR42-31-0091, Revision 02, January 18, 2016, or Avions de Transport Régional Service Bulletin ATR72-31-1092, Revision 03, dated January 18, 2016, as applicable.

(d) Subject

Air Transport Association (ATA) of America Code 22, Auto Flight.

(e) Reason

This AD was prompted by flight test evaluations that revealed discrepancies with the yaw damper (YD) and autopilot (AP) when in single source operation on certain airplanes. We are issuing this AD to prevent failure of certain operational systems in flight, which could result in loss of control of the airplane.

(f) Compliance

Comply with this AD within the compliance times specified, unless already done.

(g) Revise the Airplane Flight Manual

(1) Within 15 days after the effective date of this AD, revise the Limitations Section, Emergency Procedures section, and Procedures Following Failures section of the ATR-42 and ATR-72 airplane flight manuals (AFMs), as applicable, to include the information in figure 1 to paragraph (g) of this AD or figure 2 to paragraph (g) of this AD, as applicable; inform all flight crews; and thereafter operate the airplane accordingly.

(2) Revising the AFM as specified in paragraph (g)(1) of this AD can be done by inserting a copy of figure 1 to paragraph (g) of this AD or figure 2 to paragraph (g) of this AD, as applicable, into the applicable AFM.

BILLING CODE 4910-13-P

BILLING CODE 4910-13-C

(h) Other FAA AD Provisions

The following provisions also apply to this AD:

(1) Alternative Methods of Compliance (AMOCs): The Manager, International Section, Transport Standards Branch, FAA, has the authority to approve AMOCs for this AD, if requested using the procedures found in 14 CFR 39.19. In accordance with 14 CFR 39.19, send your request to your principal inspector or local Flight Standards District Office, as appropriate. If sending information directly to the International Section, send it to the attention of the person identified in paragraph (i)(2) of this AD. Information may be emailed to: 9-ANM-116-AMOC-REQUESTS@faa.gov. Before using any approved AMOC, notify your appropriate principal inspector, or lacking a principal inspector, the manager of the local flight standards district office/certificate holding district office.

(2) Contacting the Manufacturer: For any requirement in this AD to obtain corrective actions from a manufacturer, the action must be accomplished using a method approved by the Manager, International Section, Transport Standards Branch, FAA; or the European Aviation Safety Agency (EASA); or ATR-GIE Avions de Transport Régional's EASA Design Organization Approval (DOA). If approved by the DOA, the approval must include the DOA-authorized signature.

(i) Related Information

(1) Refer to Mandatory Continuing Airworthiness Information (MCAI) EASA AD 2016-0046, dated March 9, 2016, for related information. You may examine the MCAI on the internet at http://www.regulations.gov by searching for and locating Docket No. FAA-2017-1101.

(2) For more information about this AD, contact Shahram Daneshmandi, Aerospace Engineer, International Section, Transport Standards Branch, FAA, 1601 Lind Avenue SW, Renton, WA 98057-3356; telephone 425-227-1112; fax 425-227-1149.

(j) Material Incorporated by Reference

None.

Issued in Renton, Washington, on December 4, 2017.
Jeffrey E. Duven,
Director, System Oversight Division, Aircraft Certification Service.

[FR Doc. 2017-26621 Filed 12-12-17; 8:45 am]

BILLING CODE 4910-13-P